DEPARTMENT OF ENERGY

Federal Energy Regulatory Commission

Combined Notice of Filings #1

Take notice that the Commission received the following electric corporate filings:

Docket Numbers: EC22-35-000.

Applicants: Bicent (California) Malburg LLC, BIV Generation Company, L.L.C., Colorado Power Partners, Tanner Street Generation, LLC, GIP CAPS Grendel, L.P.

Description: Joint Application for Authorization Under Section 203 of the Federal Power Act of Bicent (California) Malburg LLC, et al.

Filed Date: 1/11/22.

Accession Number: 20220111-5064.

Comment Date: 5 p.m. ET 2/1/22.

Take notice that the Commission received the following electric rate filings:

Docket Numbers: ER22-735-001.

Applicants: Avista Corporation.

Description: Tariff Amendment: Avista First Amendment to OATT Revisions for Attachments M, N and Q to be effective 3/31/2022.

Filed Date: 1/11/22.

Accession Number: 20220111-5141.

Comment Date: 5 p.m. ET 2/1/22.

Docket Numbers: ER22-800-000.

Applicants: Idaho Power Company.

Description: § 205(d) Rate Filing: Multiple Sections Tariff Clean-Up to be effective 3/11/2022.

Filed Date: 1/11/22.

Accession Number: 20220111-5000.

Comment Date: 5 p.m. ET 2/1/22.

Docket Numbers: ER22-801-000.

Applicants: Idaho Power Company.

Description: § 205(d) Rate Filing: Appendix 7 Collation Value Error to be effective 3/11/2022.

Filed Date: 1/11/22.

Accession Number: 20220111-5001.

Comment Date: 5 p.m. ET 2/1/22.

Docket Numbers: ER22-802-000.

Applicants: Southern California Edison Company.

Description: Tariff Amendment: Amended DSA Cald BESS LLC SA No. 1151 WDT1641 & WDT1736 to be effective 3/13/2022.

Filed Date: 1/11/22.

Accession Number: 20220111-5003.

Comment Date: 5 p.m. ET 2/1/22.

Docket Numbers: ER22-803-000.

Applicants: New York Independent System Operator, Inc., Niagara Mohawk Power Corporation.

Description: § 205(d) Rate Filing: New York Independent System Operator, Inc. submits tariff filing per 35.13(a)(2)(iii: 205: NYISO-NMPC-Martin Rd Solar Amended Restated SGIA (SA 2571) to be effective 12/29/2021.

Filed Date: 1/11/22.

Accession Number: 20220111-5086.

Comment Date: 5 p.m. ET 2/1/22.

Docket Numbers: ER22-804-000.

Applicants: Public Service Company of Colorado.

Description: § 205(d) Rate Filing: 2022-01-11 CSU CO&M Agrmt-Flying Horse-Briargate Proj-648-0.0.0 to be effective 1/12/2022.

Filed Date: 1/11/22.

Accession Number: 20220111-5115.

Comment Date: 5 p.m. ET 2/1/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2022.
Debbie-Anne A. Reese,
Deputy Secretary.

[FR Doc. 2022-00808 Filed 1-14-22; 8:45 am]

BILLING CODE 6717-01-P